DEPARTMENT OF TRANSPORTATION

Pipeline and Hazardous Materials Safety Administration

[Docket No. PHMSA-2007-28505]

Pipeline Safety: Requests for Special Permit

AGENCY: Pipeline and Hazardous Materials Safety Administration (PHMSA); DOT.

ACTION: Notice.

SUMMARY: The Federal pipeline safety laws allow a pipeline operator to request PHMSA to waive compliance with any part of the Federal pipeline safety regulations by granting a special permit to the operator. PHMSA is publishing this notice to provide a list of special permit requests we have received from pipeline operators seeking relief from compliance with certain pipeline safety regulations. This notice seeks public comment on these requests, including comments on any environmental impacts. At the conclusion of the comment period, PHMSA will evaluate each request individually to determine whether to grant or deny a special permit.

DATES: Submit any comments regarding any of these special permit requests by July 23, 2008.

ADDRESSES: Comments should reference the docket number for the special permit request and may be submitted in the following ways:

• E-Gov Web Site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue, SE., Washington, DC 20590.

• Hand Delivery: DOT Docket Management System; U.S. Department of Transportation, Docket Operations, M-30, West Building Ground Floor, Room W12-140, 1200 New Jersey Avenue, SE., Washington, DC 20590 between 9 a.m. and 5 p.m., Monday through Friday, except Federal holidays.

Instructions: You should identify the docket number for the special permit request you are commenting on at the beginning of your comments. If you submit your comments by mail, submit two copies. To receive confirmation that PHMSA received your comments, include a self-addressed stamped postcard. Internet users may submit comments at http://www.regulations.gov.

Note: Comments are posted without changes or edits to http://www.regulations.gov, including any personal information provided. There is a privacy statement published on http://www.regulations.gov.

FOR FURTHER INFORMATION CONTACT: Wayne Lemoi by telephone at (404) 832-1160; or, e-mail at wayne.lemoi@dot.gov.

SUPPLEMENTARY INFORMATION: PHMSA has filed in the Federal Docket Management System (FDMS) requests for special permits we have received from pipeline operators seeking relief from compliance with certain pipeline safety regulations. Each request has been assigned a separate docket number in the FDMS. We invite interested persons to participate by reviewing these special permit requests and by submitting written comments, data or other views. Please include any comments on environmental impacts granting the special permit may have.

Before acting on any special permit request, PHMSA will evaluate all comments received on or before the comment closing date. We will consider comments received after this date if it is possible to do so without incurring additional expense or delay. We may grant a special permit or deny a request based on the comments we receive.

PHMSA has received the following special permit requests.

Docket No. | Requester | Regulation(s) | Nature of special permit
PHMSA-2008-0139 | Aker Kvaerner IHI Gulf (Aker Gulf) | 49 CFR 193.2301 | To authorize Aker Gulf to use automatic ultrasonic examination to inspect liquefied natural gas (LNG) storage tank welds in lieu of radiography during construction of the Gulf Clean Energy, LNG Re-gasification Terminal in Jackson County, Mississippi.
PHMSA-2008-0140 | Cascade Natural Gas Corporation (Cascade) | 49 CFR 192.745 | To authorize Cascade to operate the KB Pipeline in Cowlitz County, Washington, and Columbia County, Oregon, from May 1, 2008, to October 1, 2009, without partially operating certain PBV trunnion mounted ball valves during the required annual inspections. Cascade will use alternate inspection methods until a root cause investigation is completed on the failure of a similar valve in another pipeline operator's system.
PHMSA-2008-0141 | Northern Natural Gas Company (NNG) | 49 CFR 192.635(b) | To authorize NNG to operate a 2-mile natural gas transmission pipeline segment near Harrisburg, South Dakota, without injecting odorant into the gas.
PHMSA-2008-0143 | Southern LNG, Inc. (SLNG) | 49 CFR 193.2301 | To authorize SLNG to use ultrasonic examination to inspect LNG storage tank welds in lieu of radiography during expansion of the Elba Island LNG storage facility near Savannah, Georgia.
PHMSA-2008-0154 | Iroquois Gas Transmission System (Iroquois) | 49 CFR 192.1, 11, 192.145, 192.201, 192.503, 192.505, 192.611, and 192.619 | To authorize Iroquois to immediately increase the maximum allowable operating pressure (MAOP) of its entire pipeline system in the United States from 1,440 psig to 1,480 psig and after specific materials upgrades to increase the MAOP to 1,600 psig. This would result in the system operating up to 80% of the specified minimum yield strength (SMYS) in Class 1 locations, 67% SMYS in Class 2 locations, and 56% SMYS in Class 3 locations. This request applies to the 30-inch and 24-inch diameter mainline from Waddington, NY, to South Commack, NY, and to Hunts Point in New York City, including all meter stations, lateral pipelines to customer delivery points, compressor stations and all appurtenant pipeline and station facilities. Iroquois also requests the Special Permit to apply to facilities currently certificated and proposed to be in-service in 2008 and 2009 at locations in Dover, NY, Brookfield, CT, Newtown, CT and Milford, CT.
PHMSA-2008-0156 | TransCanada Pipelines Limited (TransCanada) | 49 CFR 192.611 | To authorize TransCanada to operate 17 segments along Line “A” in Boundary, Bonner, Kootenai, Spokane, Walla Walla, Umatilla, Morrow, Deschutes, and Klamath Counties in Idaho, Oregon and Washington without reducing the operating pressure as a result of changes from Class 1 and Class 2 to Class 3 locations.
PHMSA-2008-0157 | TransCanada Pipelines Limited (TransCanada) | 49 CFR 192.611 | To authorize TransCanada to operate two segments along Line “A” in Boundary and Kootenai Counties, Idaho, without reducing the operating pressure as a result of changes from Class 1 to Class 3 locations.
PHMSA-2008-0158 | Texas Gas Transmission, LLC (Texas Gas) | 49 CFR 192.611 | To authorize Texas Gas to operate 2 segments on 2 parallel gas pipelines in Iberia Parish, LA, without reducing operating pressure as a result of changes from Class 1 to Class 3 locations.
PHMSA-2008-0159 | Texas Gas Transmission, LLC (Texas Gas) | 49 CFR 192.611 | To authorize Texas Gas to operate 4 segments on 3 parallel gas pipelines in Graves County, KY, without reducing operating pressure as a result of changes from Class 1 or Class 2 to Class 3 locations.
PHMSA-2008-0163 | Transwestern Pipeline Company, L.L.C. (Transwestern) | 49 CFR 192.1, 11, and 192.201 | To authorize Transwestern to design, construct and operate the San Juan NPS 36 loop expansion project (San Juan Stitches) near Gallup, NM, at up to 80% SMYS in Class 1 locations, 67% SMYS in Class 2 locations, and 56% SMYS in Class 3 locations.

Authority: 49 U.S.C. 60118(c)(1) and 49 CFR 1.53.

Issued in Washington, DC on June 17, 2008.
Alan Mayberry,
Director, Engineering and Emergency Support.

[FR Doc. E8-14117 Filed 6-20-08; 8:45 am]

BILLING CODE 4910-60-P